DEPARTMENT OF ENERGY

Federal Energy Regulatory Commission

[Docket No. CP15-16-000]

Transcontinental Gas Pipe Line Company, LLC; Notice of Request for Extension of Time

Take notice that on April 12, 2021, Transcontinental Gas Pipe Line Company, LLC, (Transco) requested that the Federal Energy Regulatory Commission (Commission) grant an extension of time, until May 1, 2023, to complete, in part, approximately thirteen miles of pipeline looping needed to complete Phase III of its Hillabee Expansion Project, as authorized in the February 2, 2016 Order Issuing Certificates and Approving Abandonment (February 2 Order).¹ Ordering Paragraph (F)(1) of the February 2 Order, as amended, provides a deadline of May 1, 2021, for Transco to construct the remaining facilities and place them into service.²

¹ Florida Southeast Connection, LLC, et al., 154 FERC ¶ 61,080 (2016) (February 2 Order), order on reh'g, Florida Southeast Connection, LLC, et al., 156 FERC ¶ 61,160 (2016), order on remand, Florida Southeast Connection, LLC, et al., 162 FERC ¶ 61,233 (2018).

² Florida Southeast Connection, LLC, et al., 156 FERC ¶ 61,160, P 50.

Transco states that, due to unforeseen delays caused by current economic conditions, additional time is now required in order to complete the construction of the authorized project facilities.

This notice establishes a 15-calendar day intervention and comment period deadline. Any person wishing to comment on the applicant's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).³

³ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act.⁷ At the time a pipeline requests an extension of time, orders on certificates of public convenience and necessity are final and the Commission will not re-litigate their issuance.⁸ The OEP Director, or his or her designee, will act on all of those extension requests that are uncontested.

⁴ Contested proceedings are those where an intervenor disputes any material issue of the filing. 18 CFR 385.2201(c)(1) (2019).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Comment Date: 5:00 p.m. Eastern Time on April 29, 2021.

Dated: April 14, 2021.
Nathaniel J. Davis, Sr.,
Deputy Secretary.

[FR Doc. 2021-08071 Filed 4-19-21; 8:45 am]

BILLING CODE 6717-01-P